DEPARTMENT OF ENERGY

Federal Energy Regulatory Commission

[Project No. 4636-030]

Fourth Branch Associates; Ampersand Long Falls Hydro, LLC; Notice of Transfer of Exemption

1. By letter filed February 12, 2015, Ampersand Long Falls Hydro LLC informed the Commission that the exemption from licensing for the Long Falls Project, FERC No. 4636, originally issued July 12, 1988,¹ has been transferred from Fourth Branch Associates to Ampersand Long Falls Hydro LLC. The project is located on the Black River in Jefferson County, New York. The transfer of an exemption does not require Commission approval.

¹ 44 FERC ¶ 62,022, Order Granting Exemption From Licensing (5MW or Less) (1988).

2. Ampersand Long Falls Hydro LLC is now the exemptee for the Long Falls Project, FERC No. 4636. All correspondence should be forwarded to: Mr. Jason Huang, Project Manager, Ampersand Long Falls Hydro LLC, 717 Atlantic Avenue, Suite 1A, Boston, MA 02111.

Dated: March 3, 2015.
Kimberly D. Bose,
Secretary.

[FR Doc. 2015-05392 Filed 3-6-15; 8:45 am]

BILLING CODE 6717-01P